DEPARTMENT OF THE INTERIOR

Bureau of Land Management

[OR-035-1430-NJ]

Supplementary Rules for Public Lands in Umatilla County, OR

AGENCY: Oregon State Office, Bureau of Land Management, Interior.

ACTION: Interim final supplementary rule.

SUMMARY: The Bureau of Land Management (BLM) is publishing interim final supplementary rules regulating conduct on specific public lands in Umatilla County, Oregon, on and in the immediate vicinity of Umatilla Butte. The supplementary rules notify the public that certain unauthorized roads will be closed and that some activities will no longer be allowed, including: motor vehicle operation, discharge of firearms, possessing or igniting fireworks, and building, starting or maintaining any fire. The public is welcome to visit Umatilla Butte, but we have determined that certain illegal activities must be curtailed for the public to visit in safety.

DATES: The interim final supplementary rules are effective May 14, 2004. You must submit your comments to BLM at the appropriate address below on or before July 13, 2004. BLM will not necessarily consider any comments received after the above date in making its decisions on the final rule.

ADDRESSES: Address all comments concerning this rule to: Field Office Manager, Bureau of Land Management, Baker City Field Office, 3165 10th Street, Baker City, Oregon 97814.

Direct internet response: http://www.Steve_Davidson@or.blm.gov.

FOR FURTHER INFORMATION CONTACT: Baker City Field Office Manager Penny Dunn-Woods, at 541-523-1256. Persons who use a telecommunications device for the deaf (TDD) may contact this individual by calling the Federal Information Relay Service (FIRS) at (800) 877-8339, 24 hours a day, 7 days a week.

SUPPLEMENTARY INFORMATION:

I. Public Comment Procedures

II. Background

III. Discussion of Interim final Rule

IV. Procedural Matters

I. Public Comment Procedures

Electronic Access and Filing Address

You may view an electronic version of this rule at BLM's Internet home page: www.blm.gov. You may comment via the Internet by accessing our automated commenting system located at www.blm.gov/nhp/news/regulatory/index.html and following the instructions there. Please also include your name and return address in your Internet message. If you do not receive a confirmation that we have received your electronic message, contact us directly at 541-523-1256.

Written Comments

Written comments on the rule should be specific, confined to issues pertinent to the rule, and should explain the reason for any recommended change. Where possible, comments should reference the specific section or paragraph of the proposal which the commenter is addressing. BLM may not necessarily consider or include in the Administrative Record for the final rule comments which BLM receives after the close of the comment period (See DATES) or comments delivered to an address other than those listed above (See ADDRESSES).

Comments, including names, streets addresses, and other contact information of respondents, will be available for public review at Bureau of Land Management, Baker Field Office, 3165 10th St., Baker City, OR 97814 during regular business hours (7:45 a.m. to 4:30 p.m.), Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

The Bureau of Land Management (BLM) manages property in Umatilla County, Oregon known as Umatilla Butte. The legal description for the butte is: Township 5 North, Range 28 East, East ½ East ½ of Section 28, of the Willamette Meridian. This location is just west of the community of Charleston, which is north of Hermiston, Oregon. Scattered housing is found in close proximity to the butte on the west, east, and south sides. Paved and gravel roads circle the butte. Several unauthorized “roads” have evolved on the butte, usually leading to trash dumping or firearms shooting sites.

Illegal activities on the butte have resulted in numerous complaints to BLM from neighbors, officials from Umatilla County, and the Umatilla County Sheriff's Department. These activities have included: trash dumping (household, batteries, tires), methamphetamine lab dumping (seven sites alone were found in 2001), vehicle oil changing, abandoned vehicles, and fires. Firearms target shooting has resulted in bullets impacting around residences, on other private property, and near hikers in the area. Fires in the dump areas have the potential to burn hazardous materials and produce toxic fumes. The methamphetamine lab dump sites include discarded propane tanks which also pose a significant health and safety risk if engulfed in a fire.

The primary means for illegal dumping, including methamphetamine lab waste, is through the use of motorized vehicles. Vehicles are driven onto the butte using illegal roads and even by creating new roads and routes in order to access dumping sites. This activity also causes undue erosion of the butte, which in turn has the potential of creating additional hazards to those driving on these illegal roads, to the resource, others using the butte and to land owners nearby.

Because motorized vehicles facilitate the ability to accomplish most of the illegal dumping and start fires, this rule would close the butte to motorized vehicles. Foot and non-motorized access is still allowed and encouraged.

III. Discussion of Rule

Why Is This Rule Being Published as Interim Final?

Because of significant health and safety risks to the public caused by activities that this rule would prohibit, including risks both to visitors to Umatilla Butte and residents in the immediate area of the butte, BLM needs to curtail certain dangerous activities. The Umatilla County Sheriff's Office and the adjacent land owners are requesting that the BLM take immediate and aggressive action to stop these behaviors.

Because of the immediate and ongoing hazards to the public's health and safety and because of the need to protect natural resources from continued hazardous materials dumping, erosion, and fires, we find good cause to publish these rules as interim final, effective May 14, 2004, and allowing 60 days for public comment.

IV. Procedural Matters

Executive Order 12630, Governmental Actions and Interference With Constitutionally Protected Property Rights (Takings)

The rule does not represent a government action capable of interfering with Constitutionally protected property rights. Therefore, the Department of the Interior has determined that the rule would not cause a taking of private property or require further discussion of takings implications under this Executive Order.

Executive Order 13132, Federalism [Replaces Executive Orders 12612 and 13083.]

The rule will not have a substantial direct effect on the States, on the relationship between the national government and the States, or on the distribution of power and responsibilities among the various levels of government. Therefore, in accordance with Executive Order 13132, BLM has determined that this rule does not have sufficient Federalism implications to warrant preparation of a Federalism Assessment.

Executive Order 12988, Civil Justice Reform

Under Executive Order 12988, the Office of the Solicitor has determined that this rule would not unduly burden the judicial system and that it meets the requirements of sections 3(a) and 3(b)(2) of the Order.

Executive Order 13175, Consultation and Coordination With Indian Tribal Governments [Replaces Executive Order 13084]

In accordance with Executive Order 13175, we have found that this final rule does not include policies that have tribal implications.

Paperwork Reduction Act

These supplementary rules do not contain information collection requirements that the Office of Management and Budget must approve under the Paperwork Reduction Act of 1995, 44 U.S.C. 3501 et seq.

Author

The principal author of this interim final rule is Tom Averett, Baker Field Office, Baker City, Oregon assisted by Jim Huff, Oregon State Office, BLM.

For the reasons stated in the preamble, and under the authority of 43 CFR 8365.1-6 Supplementary Rules, the Oregon/Washington State Director, Bureau of Land Management, issues supplementary rules for public lands in the area known as Umatilla Butte, to read as follows:

Sec. 1 Prohibited acts.

(a) Prohibited acts. Within the area you must not:

(1) Operate any motorized vehicle.

(2) Discharge any firearm.

(3) Start, build or maintain any fire.

(4) Light or discharge any fireworks or incendiary devices.

(b) Exemptions. The following are exempt from prosecution under the prohibited acts:

1. Any person operating a motorized vehicle on a publicly maintained State or County road;

2. Any Federal, State or local officer or employee in the scope of their duties;

3. Members of any organized rescue or fire-fighting force in the performance of official duty; and

4. Any person authorized in writing by BLM.

Sec. 2 Penalties.

On public lands, under section 303(a) of the Federal Land Policy and Management Act of 1976 (43 U.S.C. 1733(a)) and 43 CFR 8360.0-7, any person who violates any of these supplementary rules may be tried before a United States Magistrate and fined no more than $1,000 or imprisoned for no more than 12 months, or both. Such violations may also be subject to the enhanced fines provided for by 18 U.S.C. 3571.

Elaine M. Brong,
Oregon State Director, Bureau of Land Management.

[FR Doc. 04-10919 Filed 5-13-04; 8:45 am]

BILLING CODE 4310-33-P